FEDERAL ACCOUNTING STANDARDS ADVISORY BOARD

Notice of Meetings for 2003

Board Action: Pursuant to the Federal Advisory Committee Act (Pub. L. No. 92-463), as amended, and the FASAB Rules Of Procedure, as amended in October, 1999, notice is hereby given that the Federal Accounting Standards Advisory Board (FASAB) will meet on the following dates in room 7C13 of the GAO Building.

—Wednesday and Thursday, February 12 and 13, 2003

—Wednesday and Thursday, April 23 and 24, 2003

—Wednesday and Thursday, June 18 and 19, 2003

—Wednesday and Thursday, August 13 and 14, 2003

—Wednesday and Thursday, October 8 and 9, 2003

—Wednesday and Thursday, December 10 and 11, 2003

The purpose of the meeting is to discuss issues related to:

—National Defense PP&E,

—Consolidated Financial Reporting,

—Stewardship Reporting,

—Technical Agenda, and

—Any other topics as needed.

A more detailed agenda can be obtained from the FASAB web site (www.fasab.gov) one week prior to each meeting.

Any interested person may attend the meetings as an observer. Board discussion and reviews are open to the public. GAO Building security requires advance notice of your attendance. Please notify FASAB of your planned attendance by calling 202-512-7350, and for the subsequent meetings one day prior to the respective meeting.

FOR FURTHER INFORMATION CONTACT: Wendy Comes, Executive Director, 441 G St., NW., Mailstop 6K17V, Washington, DC 20548, or call (202) 512-7350.

Authority: Federal Advisory Committee Act. Pub. L. No. 92-463.

Dated: November 26, 2002.
Wendy M. Comes,
Executive Director.

[FR Doc. 02-30578 Filed 12-2-02; 8:45 am]

BILLING CODE 1610-01-M